DEPARTMENT OF DEFENSE

Office of the Secretary

[Docket ID DOD-2012-OS-0013]

Proposed Collection; Comment Request

AGENCY: Defense Logistics Agency, DLA Small Business Programs, DoD.

ACTION: Notice.

SUMMARY: In compliance with section 3506(c)(2)(A) of the Paperwork Reduction Act of 1995, the Defense Logistics Agency announces the proposed extension of a public information collection and seeks public comment on the provisions thereof. Comments are invited on: (a) Whether the collection of information is necessary for the proper performance of the functions of the agency, including whether the information shall have practical utility; (b) the accuracy of the agency's estimate of the burden of the information collection; (c) ways to enhance the quality, utility, and clarity of the information collected; and (d) ways to minimize the burden of the information collection on respondents, including through the use of automated collection techniques or other forms of information technology.

DATES: Consideration will be given to all comments received by April 6, 2012.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Logistics Agency Office of Small Business Programs via email to ptap@dla.mil, or by regular mail to the Defense Logistics Agency Office of Small Business Programs, ATTN: Procurement Technical Assistance Program, DB, 8725 John J. Kingman Road, Suite 1127, Fort Belvoir, VA 22060-6221; or call the Office of Small Business programs at (703) 767-0192.

Title; Associated Form; and OMB Number: Request for approval for Procurement Technical Assistance Center Cooperative Agreement Performance Report, DLA Form 1806, OMB Control Number 0704-0320.

Needs and Uses: The Defense Logistics Agency uses the report as the principal instrument for measuring the performance of Cooperative Agreement awards made under 10 U.S.C. Chapter 142.

Affected Public: State and local governments, private nonprofit organizations, Indian tribal organizations and Indian economic enterprises.

Annual Burden Hours: 2744.

Number of Respondents: 98.

Responses per Respondent: 4.

Average Burden per Response: 7 hours.

Frequency: Quarterly.

SUPPLEMENTARY INFORMATION:

Summary of Information Collection

Each cooperative agreement award recipient submitted goals and objectives in their application that were subsequently incorporated into their cooperative agreement awards. The level of achievement of these goals and the funds expended in the process of conducting the program is measured by the report. The government's continued funding of a cooperative agreement and the decision to exercise an option award for a cooperative agreement award is based to a significant degree on the award holder's current performance as measured by the report. Information from the report is also used to identify programs that may be in need of assistance and/or increased surveillance.

Dated: January 31, 2012.
Aaron Siegel,
Alternate OSD Federal Register Liaison Officer, Department of Defense.

[FR Doc. 2012-2500 Filed 2-3-12; 8:45 am]

BILLING CODE 5001-06-P